DEPARTMENT OF DEFENSE

Department of the Navy

Notice of Availability of the Record of Decision for the Final Supplemental Environmental Impact Statement for Land-Water Interface and Service Pier Extension at Naval Base Kitsap Bangor, Kitsap County, WA

AGENCY: Department of the Navy, DoD.

ACTION: Notice.

SUMMARY: The United States Department of the Navy (Navy), announces its decision to construct and operate a Service Pier Extension (SPE) and associated support facilities in Hood Canal on the waterfront of Naval Base (NAVBASE) Kitsap Bangor, Washington (WA). The Navy will implement Alternative 2, short pier configuration, which is the preferred alternative in the October 2018 Final Supplemental Environmental Impact Statement (SEIS) for the Land-Water Interface (LWI) and SPE, NAVBASE Kitsap Bangor, WA. The Alternative 2 short pier configuration is also the environmentally preferred alternative and will fully meet the Navy's purpose and need for the proposed action.

SUPPLEMENTARY INFORMATION: The existing Service Pier will be extended by 520 feet and will require in-water as well as upland construction of associated facilities to provide additional maintenance berthing capacity and improve associated support facilities for existing homeported and visiting submarines at NAVBASE Kitsap Bangor. The complete text of the Record of Decision (ROD) for the LWI and SPE SEIS is available on the project website at http://www.nbkeis.com/SEIS.aspx, along with the October 2018 Final SEIS for LWI and SPE, NAVBASE Kitsap Bangor, WA. Single copies of the ROD are available upon request by contacting: Naval Facilities Engineering Command Northwest, Attn: Ms. Kimberly Kler (LWI and SPE SEIS Program Manager), 1101 Tautog Circle, Silverdale, WA 98315-1101.

Dated: January 28, 2019.
M.S. Werner,
Commander, Judge Advocate General's Corps, U.S. Navy, Federal Register Liaison Officer.

[FR Doc. 2019-00372 Filed 1-30-19; 8:45 am]

BILLING CODE 3810-FF-P